ADMINISTRATIVE CONFERENCE OF THE UNITED STATES

Federal Agency Collaboration With State, Local, Tribal, and Territorial Governments; Request for Comments

AGENCY: Administrative Conference of the United States (ACUS).

ACTION: Notice; request for comments.

SUMMARY: The Office of the Chairman of ACUS is requesting public input on Federal agency approaches and processes for collaborating with State, local, Tribal, and territorial governments when administering Federal programs. ACUS is accepting written comments. Responses to this request may inform an ongoing ACUS project, “Federal Agency Collaboration with State, Local, Tribal, and Territorial Governments” which, if warranted, may recommend best practices for agencies to use.

DATES: Written comments must be received no later than 10 a.m. (ET) July 28, 2025.

ADDRESSES: You may submit written comments by email to info@acus.gov (with “Federal Agency Collaboration with State, Local, Tribal, and Territorial Governments” in the subject line of the message), or by U.S. Mail addressed to Federal Agency Collaboration with State, Local, Tribal, and Territorial Governments, Administrative Conference of the United States, Suite 706 South, 1120 20th Street NW, Washington, DC 20036. ACUS will ordinarily post comments on the project web page (https://www.acus.gov/projects/federal-agency-collaboration-state-local-tribal-and-territorial-governments) as they are received. Commenters should not include information, such as personal information or confidential business information, that they do not wish to appear on the ACUS website. For the full ACUS public comment policy, please visit https://www.acus.gov/policy/public-comment-policy.

FOR FURTHER INFORMATION CONTACT: Becaja Caldwell, Attorney Advisor, Administrative Conference of the United States, 1120 20th Street NW, Suite 706 South, Washington, DC 20036; telephone (202) 480-2081; email bcaldwell@acus.gov.

SUPPLEMENTARY INFORMATION: The Administrative Conference Act, 5 U.S.C. 591-596, established the Administrative Conference of the United States. The Conference studies the efficiency, adequacy, and fairness of the administrative procedures used by Federal agencies and makes recommendations to agencies, the President, Congress, and the Judicial Conference of the United States for procedural improvements (5 U.S.C. 594(1)). For further information about the Conference and its activities, see www.acus.gov.

Federal Agency Collaboration With State, Local, Tribal, and Territorial Governments

State, local, Tribal, and territorial governments (SLTTGs) play a critical role in administering many Federal programs. Approximately 81 percent of Federal statutes include provisions that contemplate some kind of collaboration—formal or informal—between Federal agencies and SLTTGs. When governments collaborate, they work together to produce more public value than they could produce on their own, promoting greater accountability, transparency, and innovation in the administration of Federal programs.

Such intergovernmental partnerships are critical for administering a wide array of Federal policies in myriad contexts.¹ For example, the Army collaborates with State and local environmental agencies when constructing water navigation projects.² Under the Affordable Care Act, States are responsible for implementing certain insurance-exchange provisions which the Department of Health and Human Services (HHS) oversees.³ In the law enforcement context, HHS and the Department of Justice are responsible for coordinating Federal, State, and local law enforcement programs to control fraud and abuse with respect to health plans,⁴ while the Drug Enforcement Administration pursues its enforcement efforts under the Controlled Substances Act with the help of State and local task forces.⁵ The Federal Highway Administration and Bureau of Indian Affairs work in partnership with Tribal governments to facilitate Tribal transportation planning on Tribal lands.⁶ Finally, the Department of Homeland Security oversees a National Network of Fusion Centers, in coordination with SLTTGs and other Federal partners, to facilitate threat-related information sharing among such entities.⁷ These are just some examples of the many ways in which Federal agencies and SLTTGs partner to more effectively and efficiently deliver public services.

¹ Pamela J. Clouser McCann, The Strategic Use of Congressional Intergovernmental Delegation, 77 J. Pol. 620 (2015).

² 33 U.S.C. 2233.

³ 42 U.S.C. 18031; see also 42 U.S.C. 18041 (describing State flexibility in the operation and enforcement of health benefit exchanges).

⁴ 42 U.S.C. 1320a-7c; see also Dep't of Just. & Dep't of Health & Hum. Servs., Annual Report of the Departments of Health and Human Services and Justice: Health Care Fraud and Abuse Control Program FY 2023 (2024), https://oig.hhs.gov/documents/hcfac/10087/HHS%20OIG%20FY%202023%20HCFAC.pdf (discussing the ways in which both departments worked together with State and local governments to combat health care fraud and abuse in Fiscal Year 2023).

⁵ 21 U.S.C. 873; see also State and Local Task Forces, Drug Enf't Admin., https://www.dea.gov/state-and-local-task-force (last visited May 20, 2025).

⁶ 23 U.S.C. 201-202.

⁷ See Fusion Centers' Support of National Strategies and Guidance, U.S. Dep't of Homeland Sec., https://www.dhs.gov/topic/fusion-centers-support-national-strategies-and-guidance (last visited May 20, 2025).

For these partnerships to be successful, officials must coordinate and cooperate effectively across government. However, there is limited research on how Federal agencies and SLTTGs work together to achieve successful partnerships. Through this project, ACUS is seeking to learn more about the laws and policies that govern and shape intergovernmental partnerships; the frequency and scale of Federal collaboration with SLTTGs; practical considerations that policymakers evaluate in structuring, implementing, and maintaining such partnerships; and challenges that administrators face in managing them. The project will result in a set of recommended best practices that Federal agencies can use to coordinate and collaborate more effectively with SLTTG partners.

Specific Topics for Public Comment

ACUS welcomes views, information, and data on all aspects of strategies and approaches that agencies are using or might use to collaborate with State, local, Tribal, and/or territorial governments in administering Federal programs. ACUS also seeks specific feedback on the following questions related to agencies' collaboration efforts:

1. What has been your experience regarding collaboration with a Federal agency to carry out a program?

2. If you have been involved in an intergovernmental partnership, who are (or were) your intergovernmental partners?

3. In your experience, what makes a collaboration successful? Are there practices that Federal and SLTTG officials could adopt to facilitate more productive collaborations?

4. In your experience, what challenges do Federal officials experience when interacting with SLTTG partners? What strategies have Federal and SLTTG officials used (or do use) to address these challenges? Were any strategies particularly effective or ineffective? Why or why not? Are there any lessons learned, policies, or practices that could be implemented to enhance intergovernmental partnerships?

5. In your experience, how do (or did) intergovernmental partners communicate with each other and with other interested persons? Has technology changed this dynamic, and, if so, how?

6. In your experience, to what extent do Federal agencies and SLTTG partners develop policies that govern their relationships? To what extent are such policies made publicly available?

7. To what extent are Federal officials and SLTTG partners aware of the laws governing their collaboration?

Dated: May 20, 2025.
Shawne McGibbon,
General Counsel.

[FR Doc. 2025-09373 Filed 5-23-25; 8:45 am]

BILLING CODE 6110-01-P